DEPARTMENT OF DEFENSE

Department of the Army, Corps of Engineers

Intent To Prepare a Draft Environmental Impact Statement (EIS) for the Calcasieu Lock, LA, Feasibility Study

AGENCY: U.S. Army Corps of Engineers, DoD.

ACTION: Notice of intent.

SUMMARY: The Calcasieu Lock is located on the Gulf Intracoastal Waterway (GIWW) in southwest Louisiana. A feasibility study is being conducted to investigate alternatives to reduce navigation delays associated with the lock. A draft EIS is being prepared to accompany the feasibility report.

FOR FURTHER INFORMATION CONTACT: Questions concerning the EIS should be addressed to Mr. Richard Boe at (504) 862-1505. Mr. Boe may also be reached at fax number (504) 862-2572 or by E-mail at richard.e.boe@mnv02.usace.army.mil. Mr. Boe's address is U.S. Army Corps of Engineers, PM-RS, P.O. Box 60267, New Orleans, Louisiana 70160-0267.

SUPPLEMENTARY INFORMATION: 1. Authority. The feasibility study is authorized by identical resolutions passed by the Senate and the House of Representatives in 1972 requesting the Board of Engineers for Rivers and Harbors “to review the reports on the Gulf Intracoastal Waterway (Louisiana-Texas Section, including the Morgan City-Port Allen Route) * * * with a view to determining the advisability of modifying the existing project in any way * * *.”

2. Proposed Action. The proposed action, if determined economically feasible and environmentally acceptable, is the construction of a new lock to replace the existing Calcasieu Lock.

3. Alternatives. a. Three potential alignments for a replacement lock have been identified. The first alternative is to align a new lock immediately north of the existing lock. The second alternative consists of a new lock immediately south of the existing lock. The third alternative is a new lock in the center of an existing bypass channel about one-half mile south of the existing lock.

b. The first alignment alternative could probably be implemented without the replacement of the Highway 384 bridge across the GIWW. The other two alignment alternatives would require replacement of the Highway 384 bridge. For each of the alignment alternatives, at least two lock widths will be evaluated—90 and 110 feet. The length of any new lock would be 1,200 feet, to make it compatible with other locks on the GIWW. For any of the lock replacement alternatives, the existing lock may be decommissioned; may be kept operational on a standby basis; or may be used as a water control structure.

c. In addition to the lock replacement alternatives, a water control structure alternative will be evaluated. This alternative would consist of a water control structure to relieve the existing lock of its water control function. The existing Calcasieu Lock is used to pass water from the Mermentau River Basin into the tidal waters of the Calcasieu River and Lake after significant rainfall events in the Mermentau River Basin. During these times of open flow through the lock, navigation traffic is usually stopped and significant delays develop. A water control structure would reduce navigation delays during such occasions.

d. A bridge-only alternative will also be investigated. The existing Highway 384 bridge is a floating, pontoon bridge. Due to the close proximity of the bridge to the lock, vessels entering the lock from the east are considered to be in the lock approach zone as they approach the bridge. To assure the safety of personnel and property, no vessels may be in the lock or entering the lock from the west while a vessel is in the east approach zone. This situation causes delays that may be remedied by the replacement of the bridge with a mid-level or high-level bridge.

4. Scoping. a. Scoping is the process for determining the scope of alternatives and significant issues to be addressed in the EIS. For this study, a scoping letter combined with a notice of study initiation will be sent to all parties believed to have an interest in the study. The letter will request input on alternatives and issues to be evaluated and notify interested parties and the local and regional news media of a public scoping meeting that will be held in the local area.

b. Public Meeting. A public scoping meeting will be held in the Calcasieu Parish Police Jury Administrative Building located at 1025 Pithon Street, Lake Charles, Louisiana, at 7 pm, April 3, 2001. All interested parties are invited to comment at this time, and anyone interested in this study should request to be included in the study mailing list.

5. Significant Issues. The tentative list of resources and issues to be evaluated in the EIS includes tidal wetlands, aquatic resources, wildlife resources, essential fish habitat, water quality, air quality, threatened and endangered species, recreation resources, and cultural resources. Socioeconomic items to be evaluated in the EIS include navigation, flood protection, business and industrial activity, employment, land use, property values, public/community facilities and services, tax revenues, population, community and regional growth, vehicular transportation, housing, community cohesion, and noise.

6. Environmental Consultation and Review. The U.S. Fish and Wildlife Service (USFWS) will be assisting in the documentation of existing conditions and assessment of effects of project alternatives through Fish and Wildlife Coordination Act consultation procedures. Consultation will also be accomplished with the USFWS and the National Marine Fisheries Service concerning threatened and endangered species. All other necessary environmental compliance will be obtained before a Record of Decision on the EIS is signed. Other compliance requirements include a Clean Water Act Section 404(b)(1) evaluation, a Louisiana Coastal Resources Program Consistency Determination, and a State Water Quality Certification. The draft EIS or a notice of its availability will be distributed to all interested agencies, organizations, and individuals.

7. Estimated Date of Availability. The draft EIS is expected to be available in mid-2003.

Gregory D. Showalter,
Army Federal Register Liaison Officer.

[FR Doc. 01-7260 Filed 3-22-01; 8:45 am]

BILLING CODE 3710-84-U